DEPARTMENT OF HOMELAND SECURITY

Coast Guard

33 CFR Part 117

[Docket No. USCG-2018-0541]

Drawbridge Operation Regulation; Cape Fear River, North Carolina, Wilmington, NC

AGENCY: Coast Guard, DHS.

ACTION: Notice of deviation from drawbridge regulation.

SUMMARY: The Coast Guard has issued a temporary deviation from the operating schedule that governs the U.S. Route 76 (Cape Fear Memorial) Bridge across the Cape Fear River, mile 26.8, in Wilmington, NC. The deviation is necessary to facilitate routine maintenance. This deviation allows the bridge to remain in the closed-to-navigation position.

DATES: This deviation is effective without actual notice from June 22, 2018 through 5 p.m. on November 30, 2018. For the purposes of enforcement, actual notice will be used from 12:01 a.m. on June 15, 2018, until June 22, 2018.

ADDRESSES: The docket for this deviation, [USCG-2018-0541] is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch, Fifth District, Coast Guard; telephone (757) 398-6587, email Mickey.D.Sanders2@uscg.mil.

SUPPLEMENTARY INFORMATION: The North Carolina Department of Transportation, owner and operator of the U.S. Route 76 (Cape Fear Memorial) Bridge across the Cape Fear River, mile 26.8, in Wilmington, NC, has requested a temporary deviation from the current operating schedule to accommodate routine maintenance.

Under this temporary deviation, the bridge will require a four hour advanced notice to open from 12:01 a.m. on June 15, 2018, to 5 p.m. on November 30, 2018. The current operating schedule is set out in 33 CFR 117.822.

The Cape Fear River is used by a variety of vessels including small commercial vessels, recreational vessels and tug and barge traffic. The Coast Guard has carefully considered the restrictions with waterway users in publishing this temporary deviation.

Vessels able to pass through the bridge in the closed position may do so at any time. The bridge will not be able to open for emergencies and there is no immediate alternate route for vessels unable to pass through the bridge in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: June 14, 2018.
Hal R. Pitts,
Bridge Program Manager, Fifth Coast Guard District.

[FR Doc. 2018-13386 Filed 6-21-18; 8:45 am]

BILLING CODE 9110-04-P